DEPARTMENT OF LABOR

Employment and Training Administration

[TA-W-85,556]

Honeywell, Aerospace Division; Including On-Site Leased Workers From OptiScan, Tempe, Arizona; Notice of Affirmative Determination Regarding Application for Reconsideration

By application dated January 28, 2015, a worker requested administrative reconsideration of the negative determination regarding workers' eligibility to apply for worker adjustment assistance applicable to workers and former workers of Honeywell, Aerospace Division, including on-site leased workers from OptiScan, Tempe, Arizona (Honeywell). The determination was issued on December 9, 2014 and the Department of Labor's Notice of Determination was published in the Federal Register on December 30, 2014 (79 FR 78496).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that with respect to Section 222(a) and Section 222(b) of the Act, Criterion (1) had not been met because a significant number or proportion of the workers in such workers' firm had not become totally or partially separated, nor were they threatened to become totally or partially separated.

The request for reconsideration asserts that the subject worker group was defined too broadly and therefore failed to capture the worker separations and trade impact experienced by the specific workers of OptiScan who were employed on-site at Honeywell, Aerospace Division, Tempe, Arizona; that numerous firms which supplied the subject firm with on-site leased workers were erroneously combined together for the purpose of reaching a determination as a single firm, yet they were not all in support of the manufacturing process at the subject firm; that the employment decline criterion was met for the OptiScan workers employed on-site at Honeywell, Aerospace Division, Tempe, Arizona; and that the data management services they supplied in support of the engineering group were shifted to a foreign country.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 10th day of March, 2015.
Michael W. Jaffe,
Certifying Officer, Office of Trade Adjustment Assistance.

[FR Doc. 2015-06832 Filed 3-24-15; 8:45 am]

BILLING CODE 4510-FN-P